DEPARTMENT OF COMMERCE

Submission for OMB Review; Comment Request

DOC has submitted to the Office of Management and Budget (OMB) for clearance the following proposal for collection of information under the provisions of the Paperwork Reduction Act (44 U.S.C. chapter 35).

Agency: U.S. Census Bureau.

Title: Survey of Building and Zoning Permit Systems.

Form Number(s): C-411.

Agency Approval Number: 0607-0350.

Type of Request: Reinstatement, with change, of an expired collection.

Burden: 500 hours.

Number of Respondents: 2,000.

Avg Hours Per Response: 15 minutes.

Needs and Uses: The Census Bureau produces statistics used to monitor activity in the large and dynamic construction industry. These statistics help state and local governments and the Federal Government, as well as private industry, to analyze this important sector of the economy. The accuracy of the Census Bureau statistics regarding the amount of construction authorized depends on data supplied by building and zoning officials throughout the country. The Census Bureau uses Form C-411, “Survey of Building and Zoning Permits,” to obtain information from state and local building permit officials needed for updating the universe of permit-issuing places from which samples for the Report of Privately-Owned Residential Building or Zoning Permits Issued (also known as the Building Permits Survey (BPS)), and the Survey of Housing Starts, Sales, and Completions (also known as Survey of Construction (SOC)) are selected. The questions pertain to the legal requirements for issuing building or zoning permits in the local jurisdictions. Information is obtained on such items as geographic coverage and types of construction for which permits are issued. The form is sent to jurisdictions when the Census Bureau has reason to believe that a new permit system has been established or an existing one has changed.

We are requesting a reinstatement of the Form C-411 which has remained unused since its expiration earlier this year. We are requesting revisions to the form to streamline the collection and because of changing data needs.

Affected Public: State, local, or Tribal government.

Frequency: On occasion.

Respondent's Obligation: Voluntary.

Legal Authority: Title 13 U.S.C., sections 8(b), 9(b), 161, and 182; Title 15 U.S.C., section 1525.

OMB Desk Officer: Susan Schechter, (202) 395-5103.

Copies of the above information collection proposal can be obtained by calling or writing Madeleine Clayton, Departmental Paperwork Clearance Officer, (202) 482-3129, Department of Commerce, room 6086, 14th and Constitution Avenue, NW, Washington, DC 20230 (or via the Internet at mclayton@doc.gov).

Written comments and recommendations for the proposed information collection should be sent within 30 days of publication of this notice to Susan Schechter, OMB Desk Officer, room 10201, New Executive Office Building, Washington, DC 20503.

Dated: January 10, 2002.
Madeleine Clayton,
Departmental Paperwork Clearance Officer, Office of the Chief Information Officer.

[FR Doc. 02-1037 Filed 1-15-02; 8:45 am]

BILLING CODE 3510-07-P